DEPARTMENT OF TRANSPORTATION

Federal Aviation Administration

14 CFR Part 73

[Docket No. FAA-2015-0618; Airspace Docket No. 15-ANM-3]

RIN 2120-AA66

Amendment of Restricted Area Boundary Descriptions; Joint Base Lewis-McChord, WA

AGENCY: Federal Aviation Administration (FAA), DOT.

ACTION: Final rule; technical amendment.

SUMMARY: This action makes minor corrections to the boundary descriptions of restricted areas R-6703A, R-6703B, R-6703C, R-6703D, R-6703E and R-6703F at Joint Base Lewis-McChord, WA. The changes are required due to a typographical error that occurred during publication of the final rule in the Federal Register.

DATES: Effective date 0901 UTC, May 7, 2015.

FOR FURTHER INFORMATION CONTACT: Jason Stahl, Airspace Policy and Regulations Group, AJV-11, Office of Airspace Services, Federal Aviation Administration, 800 Independence Avenue SW., Washington, DC 20591; telephone: (202) 267-8783.

SUPPLEMENTARY INFORMATION:

Background

In a final rule published in the Federal Register April 29, 2013 (78 FR 24985), several instances of the symbol for minutes of arc were changed to the symbol for seconds of arc. Instead of a geographic coordinate denoted as lat. 47°52′31″ N, it was published as lat. 47°52″31″ N.

The Rule

This action amends Title 14 Code of Federal Regulations (14 CFR) part 73 to make minor updates to certain latitude/longitude coordinates in the descriptions of restricted areas R-6703A, R-6703B, R-6703C, R-6703D, R-6703E and R-6703F at Joint Base Lewis-McChord, WA. The changes are to correct a typographical error of the symbol depicting minutes of arc in the publication of the original rule.

R-6703A: The text “Boundaries. Beginning at lat. 47°03″ 07″ N., long. 122°41″ 09″ W.; to lat. 47°04″ 34″ N., long. 122°41″ 09″ W.; to lat. 47°04″ 41″ N., long. 122°38″ 19″ W.; to lat. 47°03″ 37″ N., long. 122°35″ 40″ W.; to lat. 47°03″ 15″ N., long. 122°35″ 48″ W.; to lat. 47°03″ 06″ N., long. 122°36″ 51″ W.; to lat. 47°02″ 02″ N., long. 122°37″ 33″ W.; to lat. 47°02″ 06″ N., long. 122°38″ 33″ W.; to lat. 47°02″ 14″ N., long. 122°38″ 53″ W.; to lat. 47°02″ 19″ N., long. 122°39″ 14″ W.; to lat. 47°02″ 19″ N., long. 122°39″ 37″ W.; to lat. 47°02″ 21″ N., long. 122°40″ 17″ W.; to lat. 47°02″ 38″ N., long. 122°40″ 39.″ W.; thence via the Nisqually River to the point of beginning.” is replaced with “Boundaries. Beginning at lat. 47°03′ 07″ N., long. 122°41′ 09″ N.; to lat. 47°04′ 34″ N., long. 122°41′ 09″ N.; to lat. 47°04′ 41″ N., long. 122°38′ 19″ N.; to lat. 47°03′ 37″ N., long. 122°35′ 40″ N.; to lat. 47°03′ 15″ N., long. 122°35′ 48″ N.; to lat. 47°03′ 06″ N., long. 122°36′ 51″ N.; to lat. 47°02′ 02″ N., long. 122°37′ 33″ N.; to lat. 47°02′ 06″ N., long. 122°38′ 33″ N.; to lat. 47°02′ 14″ N., long. 122°38′ 53″ N.; to lat. 47°02′ 19″ N., long. 122°39′ 14″ N.; to lat. 47°02′ 19″ N., long. 122°39′ 37″ N.; to lat. 47°02′ 21″ N., long. 122°40′ 17″ N.; to lat. 47°02′ 38″ N., long. 122°40′ 39″ N.; Thence via the Nisqually River to the point of beginning.”

R-6703B: The text ”Boundaries. Beginning at lat. 47°01″ 32″ N., long. 122°36″ 28″ W.; to lat. 47°01″ 32″ N., long. 122°36″ 51″ W.; to lat. 47°01″ 42″ N., long. 122°37″ 12″ W.; to lat. 47°02″ 02″ N., long. 122°37″ 33.″ W.; to lat. 47°03″ 06″ N., long. 122°36″ 51″ W.; to lat. 47°03″ 15″ N., long. 122°35″ 48″ W.; to the point of beginning.” is replaced with “Boundaries. Beginning at lat. 47°01′32″ N., long. 122°36′28″ W.; to lat. 47°01′32″ N., long. 122°36′51″ W.; to lat. 47°01′42″ N., long. 122°37′12″ W.; to lat. 47°02′02″ N., long. 122°37′33″ W.; to lat. 47°03′06″ N., long. 122°36′51″ W.; to lat. 47°03′15″ N., long. 122°35′48″ W.; to the point of beginning.”

R-6703C: The text “Boundaries. Beginning at lat. 46°59″ 19″ N., long. 122°37″ 19″ W.; to lat. 46°59″ 15″ N., long. 122°37″ 56″ W.; Thence via the Nisqually River to lat. 47°00″ 32″ N., long. 122°38″ 59″ W.; to lat. 47°00″ 47″ N., long. 122°39″ 04″ W.; to lat. 47°00″ 57″ N., long. 122°39″ 20″ W.; to lat. 47°01″ 10″ N., long. 122°39″ 26″ W.; to lat. 47°01″ 22″ N., long. 122°39″ 45″ W.; to lat. 47°01″ 42″ N., long. 122°39″ 49″ W.; to lat. 47°02″ 00″ N., long. 122°39″ 59″ W.; to lat. 47°02″ 21″ N., long. 122°40″ 17″ W.; to lat. 47°02″ 19″ N., long. 122°39″ 37″ W.; to lat. 47°02″ 19″ N., long. 122°39″ 14″ W.; to lat. 47°02″ 14″ N., long. 122°38″ 53″ W.; to lat. 47°02″ 06″ N., long. 122°38″ 33″ W.; to lat. 47°02″ 02″ N., long. 122°37″ 33″ W.; to lat. 47°01″ 42″ N., long. 122°37″ 12″ W.; to lat. 47°01″ 32″ N., long. 122°36″ 51″ W.; to lat. 47°01″ 32″ N., long. 122°36″ 28″ W.; to the point of beginning.” is replaced with “Beginning at lat. 46°59′19″ N., long. 122°37′19″ W.; to lat. 46°59′15″ N., long. 122°37′56″ W.; Thence via the Nisqually River to lat. 47°00′32″ N., long. 122°38′59″ W.; to lat. 47°00′47″ N., long. 122°39′04″ W.; to lat. 47°00′57″ N., long. 122°39′20″ W.; to lat. 47°01′10″ N., long. 122°39′26″ W.; to lat. 47°01′22″ N., long. 122°39′45″ W.; to lat. 47°01′42″ N., long. 122°39′49″ W.; to lat. 47°02′00″ N., long. 122°39′59″ W.; to lat. 47°02′21″ N., long. 122°40′17″ W.; to lat. 47°02′19″ N., long. 122°39′37″ W.; to lat. 47°02′19″ N., long. 122°39′14″ W.; to lat. 47°02′14″ N., long. 122°38′53′ W.; to lat. 47°02′06″ N., long. 122°38′33″ W.; to lat. 47°02′02″ N., long. 122°37′33″ W.; to lat. 47°01′42″ N., long. 122°37′12″ W.; to lat. 47°01′32″ N., long. 122°36′51″ W.; to lat. 47°01′32″ N., long. 122°36′28″ W.; to the point of beginning.”

R-6703D: The text “Boundaries. Beginning at lat. 46°57″ 11″ N., long. 122°38″ 51″ W.; to lat. 46°57″ 12″ N., long. 122°43″ 42″ W.; to lat. 47°03″ 07″ N., long. 122°41″ 09″ W.; to lat. 47°02″ 56″ N., long. 122°40″ 49″ W.; to lat. 47°02″ 41″ N., long. 122°40″ 48″ W.; to lat. 47°02″ 38″ N., long. 122°40″ 39″ W., to lat. 47°02″ 21″ N,. long. 122°40″ 17″ W.; to lat. 47°02″ 00″ N., long. 122°39″ 59″ W.; to lat. 47°01″ 42″ N., long. 122°39″ 49″ W.; to lat. 47°01″ 22″ N., long. 122°39″ 45″ W.; to lat. 47°01″ 10″ N., long. 122°39″ 26″ W.; to lat. 47°00″ 57″ N., long. 122°39″ 20″ W.; to lat. 47°00″ 47″ N., long. 122°39″ 04″ W.; to lat. 47°00″ 32″ N., long. 122°38″ 59″ W.; thence via the Nisqually River to lat. 46°59″ 15″ N., long. 122°37″ 56″ W.; to lat. 46°59″ 19″ N., long. 122°37″ 19″ W.; to lat. 46°58″ 16″ N., long. 122°37″ 44″ W.; to the point of beginning.” is replaced with “Boundaries. Beginning at lat. 46°57′11″ N., long. 122°38′51″ W.; to lat. 46°57′12″ N., long. 122°43′42″ W.; to lat. 47°03′07″ N., long. 122°41′09″ W.; to lat. 47°02′56″ N., long. 122°40′49″ W.; to lat. 47°02′41″ N., long. 122°40′48″ W.; to lat. 47°02′38″ N., long. 122°40′39″ W., to lat. 47°02′21″ N,. long. 122°40′17″ W.; to lat. 47°02′00″ N., long. 122°39′59″ W.; to lat. 47°01′42″ N., long. 122°39′49″ W.; to lat. 47°01′22″ N., long. 122°39′45″ W.; to lat. 47°01′10″ N., long. 122°39′26″ W.; to lat. 47°00′57″ N., long. 122°39′20″ W.; to lat. 47°00′47″ N., long. 122°39′04″ W.; to lat. 47°00′32″ N., long. 122°38′59″ W.; thence via the Nisqually River to lat. 46°59′15″ N., long. 122°37′56″ W.; to lat. 46°59′19″ N., long. 122°37′19″ W.; to lat. 46°58′16″ N., long. 122°37′44″ W.; to the point of beginning.”

R-6703D: The text “Boundaries. Beginning at lat. 46°57″ 11″ N., long. 122°38″ 51″ W.; to lat. 46°57″ 12″ N., long. 122°43″ 42″ W.; to lat. 47°03″ 07″ N., long. 122°41″ 09″ W.; to lat. 47°02″ 56″ N., long. 122°40″ 49″ W.; to lat. 47°02″ 41″ N., long. 122°40″ 48″ W.; to lat. 47°02″ 38″ N., long. 122°40″ 39″ W., to lat. 47°02″ 21″ N,. long. 122°40″ 17″ W.; to lat. 47°02″ 00″ N., long. 122°39″ 59″ W.; to lat. 47°01″ 42″ N., long. 122°39″ 49″ W.; to lat. 47°01″ 22″ N., long. 122°39″ 45″ W.; to lat. 47°01″ 10″ N., long. 122°39″ 26″ W.; to lat. 47°00″ 57″ N., long. 122°39″ 20″ W.; to lat. 47°00″ 47″ N., long. 122°39″ 04″ W.; to lat. 47°00″ 32″ N., long. 122°38″ 59″ W.; thence via the Nisqually River to lat. 46°59″ 15″ N., long. 122°37″ 56″ W.; to lat. 46°59″ 19″ N., long. 122°37″ 19″ W.; to lat. 46°58″ 16″ N., long. 122°37″ 44″ W.; to the point of beginning.” is replaced with “Boundaries. Beginning at lat. 46°57′11″ N., long. 122°38′51″ W.; to lat. 46°57′12″ N., long. 122°43′42″ W.; to lat. 47°03′07″ N., long. 122°41′09″ W.; to lat. 47°02′56″ N., long. 122°40′49″ W.; to lat. 47°02′41″ N., long. 122°40′48″ W.; to lat. 47°02′38″ N., long. 122°40′39″ W., to lat. 47°02′21″ N,. long. 122°40′17″ W.; to lat. 47°02′00″ N., long. 122°39′59″ W.; to lat. 47°01′42″ N., long. 122°39′49″ W.; to lat. 47°01′22″ N., long. 122°39′45″ W.; to lat. 47°01′10″ N., long. 122°39′26″ W.; to lat. 47°00′57″ N., long. 122°39′20″ W.; to lat. 47°00′47″ N., long. 122°39′04″ W.; to lat. 47°00′32″ N., long. 122°38′59″ W.; thence via the Nisqually River to lat. 46°59′15″ N., long. 122°37′56″ W.; to lat. 46°59′19″ N., long. 122°37′19″ W.; to lat. 46°58′16″ N., long. 122°37′44″ W.; to the point of beginning.”

R-6703E: The text “Boundaries. Beginning at lat. 46°57″ 11″ N., long. 122°38″ 51″ W.; to lat. 46°54″ 34″ N., long. 122°41″ 29″ W.; to lat. 46°54″ 17″ N., long. 122°43″ 36″ W.; to lat. 46°55″ 11″ N., long. 122°44″ 34″ W.; to lat. 46°57″ 12″ N., long. 122°43″ 42″ W.; to the point of beginning.” is replaced with “Boundaries. Beginning at lat. 46°57′11″ N., long. 122°38′51″ W.; to lat. 46°54′34″ N., long. 122°41′29″ W.; to lat. 46°54′17″ N., long. 122°43′36″ W.; to lat. 46°55′11″ N., long. 122°44′34″ W.; to lat. 46°57′12″ N., long. 122°43′42″ W.; to the point of beginning.”

R-6703F: The text “Boundaries. Beginning at lat. 47°01″ 32″ N., long. 122°36″ 28″ W.; to lat. 47°03″ 37″ N., long. 122°35″ 40″ W.; to lat. 47°02″ 47″ N., long. 122°33″ 40″ W.; to lat. 47°02″ 43″ N., long. 122°34″ 06″ W.; to lat. 47°02″ 26″ N., long. 122°34″ 22″ W.; to lat. 47°02″ 08″ N., long. 122°34″ 38″ W.; to lat. 47°02″ 02″ N., long. 122°34″ 52″ W.; to lat. 47°01″ 57″ N., long. 122°35″ 05″ W.; to lat. 47°01″ 37″ N., long. 122°35″ 37″ W.; to lat. 47°01″ 32″ N., long. 122°36″ 05″ W.; to the point of beginning.” is replaced with “Boundaries. Beginning at lat. 47°01′32″ N., long. 122°36′28″ W.; to lat. 47°03′37″ N., long. 122°35′40″ W.; to lat. 47°02′47″ N., long. 122°33′40″ W.; to lat. 47°02′43″ N., long. 122°34′06″ W.; to lat. 47°02′26″ N., long. 122°34′22″ W.; to lat. 47°02′08″ N., long. 122°34′38″ W.; to lat. 47°02′02″ N., long. 122°34′52″ W.; to lat. 47°01′57″ N., long. 122°35′05″ W.; to lat. 47°01′37″ N., long. 122°35′37″ W.; to lat. 47°01′32″ N., long. 122°36′05″ W.; to the point of beginning.”

This amendment consists of minor editorial changes to correct a typographical error in the geographic coordinates. It does not affect the location, designated altitudes, or activities conducted within the restricted areas; therefore, notice and public procedure under 5 U.S.C. 553(b) are unnecessary.

The FAA has determined that this action only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it amends the descriptions of certain Restricted areas at Joint Base Lewis-McChord, WA, correcting typographical errors.

Environmental Review

The FAA has determined that this action qualifies for categorical exclusion under the National Environmental Policy Act in accordance with 311d, FAA Order 1050.1E, Environmental Impacts: Policies and Procedures. This airspace action is a minor editorial change to the descriptions of restricted areas R-6703A, R-6703B, R-6703C, R-6703D, R-6703E and R-6703F at Joint Base Lewis-McChord, WA., to correct a typographical error in the geographic coordinates. It does not alter the location, altitudes, or activities conducted within the airspace; therefore, it is not expected to cause any potentially significant environmental impacts, and no extraordinary circumstances exists that warrant preparation of an environmental assessment.

List of Subjects in 14 CFR Part 73

Airspace, Prohibited areas, Restricted areas.

Adoption of the Amendment

In consideration of the foregoing, the Federal Aviation Administration amends 14 CFR part 73, as follows:

PART 73—SPECIAL USE AIRSPACE

1. The authority citation for part 73 is amended to read as follows:

Authority: 49 U.S.C. 106(f), 106(g), 40103, 40113, 40120; E.O. 10854, 24 FR 9565, 3 CFR, 1959-1963 Comp., p. 389.

§ 73.67 [Amended]

2. § 73.67 is amended as follows:

* * * * *

R-6703A Joint Base Lewis-McChord, WA [Amended]

By removing the current boundaries and adding in its place the following:

Boundaries. Beginning at lat. 47°03′ 07″ N., long. 122°41′ 09″ N.; to lat. 47°04′34″ N., long. 122°41′09″ N.; to lat. 47°04′41″ N., long. 122°38′19″ N.; to lat. 47°03′37″ N., long. 122°35′40″ N.; to lat. 47°03′15″ N., long. 122°35′48″ N.; to lat. 47°03′06″ N., long. 122°36′51″ N.; to lat. 47°02′02″ N., long. 122°37′33″ N.; to lat. 47°02′06″ N., long. 122°38′33″ N.; to lat. 47°02′14″ N., long. 122°38′53″ N.; to lat. 47°02′19″ N., long. 122°39′14″ N.; to lat. 47°02′19″ N., long. 122°39′37″ N.; to lat. 47°02′21″ N., long. 122°40′17″ N.; to lat. 47°02′38″ N., long. 122°40′39″ N.; thence via the Nisqually River to the point of beginning.

* * *

R-6703B Joint Base Lewis-McChord, WA [Amended]

By removing the current boundaries and adding in its place the following:

Boundaries. Beginning at lat. 47°01′32″ N., long. 122°36′28” W.; to lat. 47°01′32″ N., long. 122°36′51″ W.; to lat. 47°01′42″ N., long. 122°37′12″ W.; to lat. 47°02′02″ N., long. 122°37′33″ W.; to lat. 47°03′06″ N., long. 122°36′51″ W.; to lat. 47°03′15″ N., long. 122°35′48″ W.; to the point of beginning.

* * *

R-6703C Joint Base Lewis-McChord, WA [Amended]

By removing the current boundaries and adding in its place the following:

Boundaries. Beginning at lat. 46°59′19″ N., long. 122°37′19″ W.; to lat. 46°59′15″ N., long. 122°37′56″ W.; Thence via the Nisqually River to lat. 47°00′32″ N., long. 122°38′59″ W.; to lat. 47°00′47″ N., long. 122°39′04″ W.; to lat. 47°00′57″ N., long. 122°39′20″ W.; to lat. 47°01′10″ N., long. 122°39′26″ W.; to lat. 47°01′22″ N., long. 122°39′45″ W.; to lat. 47°01′42″ N., long. 122°39′49″ W.; to lat. 47°02′00″ N., long. 122°39′59″ W.; to lat. 47°02′21″ N., long. 122°40′17″ W.; to lat. 47°02′19″ N., long. 122°39′37″ W.; to lat. 47°02′19″ N., long. 122°39′14″ W.; to lat. 47°02′14″ N., long. 122°38′53′ W.; to lat. 47°02′06″ N., long. 122°38′33″ W.; to lat. 47°02′02″ N., long. 122°37′33″ W.; to lat. 47°01′42″ N., long. 122°37′12″ W.; to lat. 47°01′32″ N., long. 122°36′51″ W.; to lat. 47°01′32″ N., long. 122°36′28″ W.; to the point of beginning.

* * *

R-6703D Joint Base Lewis-McChord, WA [Amended]

By removing the current boundaries and adding in its place the following:

Boundaries. Beginning at lat. 46°57′11″ N., long. 122°38′51″ W.; to lat. 46°57′12″ N., long. 122°43′42″ W.; to lat. 47°03′07″ N., long. 122°41′09″ W.; to lat. 47°02′56″ N., long. 122°40′49″ W.; to lat. 47°02′41″ N., long. 122°40′48″ W.; to lat. 47°02′38″ N., long. 122°40′39″ W., to lat. 47°02′21″ N,. long. 122°40′17″ W.; to lat. 47°02′00″ N., long. 122°39′59″ W.; to lat. 47°01′42″ N., long. 122°39′49″ W.; to lat. 47°01′22″ N., long. 122°39′45″ W.; to lat. 47°01′10″ N., long. 122°39′26″ W.; to lat. 47°00′57″ N., long. 122°39′20″ W.; to lat. 47°00′47″ N., long. 122°39′04″ W.; to lat. 47°00′32″ N., long. 122°38′59″ W.; thence via the Nisqually River to lat. 46°59′15″ N., long. 122°37′56″ W.; to lat. 46°59′19″ N., long. 122°37′19″ W.; to lat. 46°58′16″ N., long. 122°37′44″ W.; to the point of beginning.

* * *

R-6703E Joint Base Lewis-McChord, WA [Amended]

By removing the current boundaries and adding in its place the following:

Boundaries. Beginning at lat. 46°57′11″ N., long. 122°38′51″ W.; to lat. 46°54′34″ N., long. 122°41′29″ W.; to lat. 46°54′17″ N., long. 122°43′36″ W.; to lat. 46°55′11″ N., long. 122°44′34″ W.; to lat. 46°57′12″ N., long. 122°43′42″ W.; to the point of beginning.

* * *

R-6703F Joint Base Lewis-McChord, WA [Amended]

By removing the current boundaries and adding in its place the following:

Boundaries. Beginning at lat. 47°01′32″ N., long. 122°36′28″ W.; to lat. 47°03′37″ N., long. 122°35′40″ W.; to lat. 47°02′47″ N., long. 122°33′40″ W.; to lat. 47°02′43″ N., long. 122°34′06″ W.; to lat. 47°02′26″ N., long. 122°34′22″ W.; to lat. 47°02′08″ N., long. 122°34′38″ W.; to lat. 47°02′02″ N., long. 122°34′52″ W.; to lat. 47°01′57″ N., long. 122°35′05″ W.; to lat. 47°01′37″ N., long. 122°35′37″ W.; to lat. 47°01′32″ N., long. 122°36′05″ W.; to the point of beginning.

* * *

Issued in Washington, DC, on April 1, 2015.
Gary A. Norek,
Manager, Airspace Policy and Regulations Group.

[FR Doc. 2015-08005 Filed 4-6-15; 8:45 am]

BILLING CODE CODE 4910-13-P